FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants:

United Container Line, Inc., 6142 NW 115 Place, #317, Miami, FL 33178, Officer: Donald L. Smith, III, President, (Qualifying Individual).

American International Shipping Company, 10 Molteg Drive, Parlin, NJ 08859, Officer: Parveen K. Sharma, Captain, (Qualifying Individual).

Aimpacific Services, Inc., 3380 Flair Drive, Suite 236, El Monte, CA 91731, Officer: Gary Kong, Chief Operation Officer, (Qualifying Individual), Ying Xiao, President.

Hua Lian Fa Logistics, Inc., 3380 Flair Drive, Suite 236, El Monte, CA 91731, Officers: Ray Dumandan, Chief Operation Officer, (Qualifying Individual), Tao Xu, Director.

Master Global Logistics, Inc., 3807 Wilshire Blvd., Suite 1000, Los Angeles, CA 90010, Officer: Frank Leung, President, (Qualifying Individual).

Taino Express Cargo Inc., 4406 N.W. 74th Avenue, Miami, FL 33166, Officers: Jose R. Pena Espinosa, Asst. of President, (Qualifying Individual), Ivan L. Montero, President.

Online Shipping Advisers, 6029 Castana Avenue, Lakewood, CA 90712, Officer: Carlos Gonzales, Corporate Officer, (Qualifying Individual).

Concatt Enterprises LLC, 2 Linda Court, Laurence Harbor, NJ 08879, Officers: Xiaqian Zhang, President, (Qualifying Individual), Yongpeng Jin, Treasurer.

SHJ International Express LLC, 223 E. Garvey Ave., #228, Monterey Park, CA 91754, Officers: Gary Tan, Vice President of Sales, (Qualifying Individual), David Loo, President.

Welley Shipping USA, Inc., 17800 Castleton Street, Suite 495, City of Industry, CA 91748, Officers: Ouyang, Chao, Secretary, (Qualifying Individual), Zang, Jing, Vice President.

Tamarind Consolidated and Associates, Inc., dba Tamarind Consolidated, 1442 S.E. 13th Street, Fort Lauderdale, FL 33316, Officers: Fred C. Rogacki, Vice President, (Qualifying Individual), Ralph Nazario, President.

Gunter Shipping Inc., 700 Nostrand Avenue, Brooklyn, NY 11216, Officer: Joseph A. Gunter, President, (Qualifying Individual).

Non-Vessel Operating Common Carrier and Ocean Freight Forwarder Transportation Intermediary Applicant:

Zust Bachmeier International, Inc., dba Z Lines, 6201 Rankin Road, Humble, TX 77396, Officers: George A. Abreu, President, (Qualifying Individual), Davis Martin, Vice President.

Apparel Logistics Inc., 8501 N.W. 17th Street, Suite 101, Miami, FL 33126, Officers: Leopoldo Del Calvo, Vice President, (Qualifying Individual), Manuel A. Lescano, President.

World Wide Relocation, Inc., 2550 Northwest Parkway, Elgin, IL 60123, Officer: Chris Baillie, Managing Director, (Qualifying Individual).

Ocean Freight Forwarder—Ocean Transportation Intermediary Applicant:

Sun Ocean Lines, Inc., 15823 S.W. 21st Street, Miramar, FL 33027, Officers: Michael Enriquez, President, (Qualifying Individual), Elena P. Enriquez, Vice President.

Dated: August 29, 2003.
Bryant L. VanBrakle,
Secretary.

[FR Doc. 03-22558 Filed 9-3-03; 8:45 am]

BILLING CODE 6730-01-P